EXPORT-IMPORT BANK

[Public Notice: 2016-3022]

Agency Information Collection Activities: Comment Request

AGENCY: Export-Import Bank of the United States.

ACTION: Submission for OMB review and Comments request.

Form Title: EIB 12-01 Medium-Term Master Guarantee Agreement Disbursement Approval Request.

SUMMARY: The Export-Import Bank of the United States (EXIM Bank), as part of its continuing effort to reduce paperwork and respondent burden, invites the general public and other Federal Agencies to comment on the proposed information collection, as required by the Paperwork Reduction Act of 1995.

EXIM Bank has an electronic disbursement approval processing system for guarantee lenders with transactions documented under Medium-Term Master Guarantee Agreements. After an export transaction has been authorized by EXIM Bank and legal documentation has been completed, the lender will obtain and review the required disbursement documents (e.g., invoices, bills of lading, Exporter's Certificate, etc.) and will disburse the proceeds of the loan for eligible goods and services. In order to obtain approval of the disbursement, the lender will access and complete an electronic questionnaire through EXIM Bank's online application system (EXIM Online). Using the form, the lender will input key data and request EXIM Bank's approval of the disbursement. EXIM Bank's action (approved or denied) is posted on the lender's history page.

The information collected in the questionnaire will assist EXIM Bank in determining that each disbursement under a Medium-Term Guarantee meets all the terms and conditions for approval.

The information collection tool can be reviewed at: http://exim.gov/sites/default/files/pub/pending/eib12-01.pdf.

DATES: Comments must be received on or before August 1, 2016 to be assured of consideration.

ADDRESSES: Comments may be submitted electronically on WWW.REGULATIONS.GOV or by mail to Office of Information and Regulatory Affairs, 725 17th Street NW., Washington, DC 20038, Attn: OMB 3048-0049.

SUPPLEMENTARY INFORMATION:

Title and Form Number: EIB 12-01 Medium-Term Master Guarantee Agreement Disbursement Approval Request.

OMB Number: 3048-0049.

Type of Review: Regular.

Need and Use: The information requested enables EXIM Bank to determine that a disbursement under a Medium-Term Guarantee meets all of the terms and conditions for approval.

Affected Public: This form affects lenders involved in the financing of U.S. goods and services exports.

Annual Number of Respondents: 150.

Estimated Time per Respondent: 30 minutes.

Annual Burden Hours: 75 hours.

Frequency of Reporting of Use: Annual.

Government Expenses:

Reviewing Time per Year: 38 hours.

Average Wages per Hour: $42.50.

Average Cost per Year (time*wages): $1,615.00.

Benefits and Overhead: 20%.

Total Government Cost: $1,938.

Bonita Jones-McNeil,
Program Analyst, Agency Clearance Officer, Office of the Chief Information Officer.

[FR Doc. 2016-12824 Filed 5-31-16; 8:45 am]

BILLING CODE 6690-01-P